NATIONAL ARCHIVES AND RECORDS ADMINISTRATION

[NARA-2020-036]

Freedom of Information Act (FOIA) Advisory Committee; Meeting

AGENCY: Office of Government Information Services (OGIS), National Archives and Records Administration (NARA).

ACTION: Notice of Federal Advisory Committee meeting.

SUMMARY: We are announcing an upcoming Freedom of Information Act (FOIA) Advisory Committee meeting in accordance with the Federal Advisory Committee Act and the second United States Open Government National Action Plan.

DATES: The meeting will be on May 1, 2020, from 10:00 a.m. to 1:30 p.m. EST. You must register by midnight EST April 28, 2020, to attend the meeting.

Location: This meeting will be held virtually. Instructions on how to access will be sent to those who register according to instructions below.

FOR FURTHER INFORMATION CONTACT: Kirsten Mitchell, Designated Federal Officer for this committee, by email at foia-advisory-committee@nara.gov or by telephone at 202.741.5770.

SUPPLEMENTARY INFORMATION:

Agenda and meeting materials: This is the eighth meeting of the third committee term. The Committee will discuss the report of the committee and consider additional recommendations from the Committee's three subcommittees, focusing on FOIA vision, time/volume, and records management. We will post meeting materials online at https://www.archives.gov/ogis/foia-advisory-committee/2018-2020-term/meetings.

Procedures: This virtual meeting is open to the public. You must register through Eventbrite in advance if you wish to attend, and you must provide an email address so that we can provide information to you on accessing the meeting online. Because of scheduling complications related to the COVID-19 situation and notice processing time, we have not been able to provide the full 15-day notice before this advisory committee meeting. We apologize for the inconvenience. To request additional accommodations (e.g., a transcript), email foia-advisory-committee@nara.gov or call 202.741.5775. Members of the media who wish to register, those who are unable to register online, and those who require special accommodations, should contact Kirsten Mitchell (contact information listed above).

Maureen MacDonald,
Designated Committee Management Officer.

[FR Doc. 2020-08357 Filed 4-20-20; 8:45 am]

BILLING CODE 7515-01-P